DEPARTMENT OF EDUCATION

34 CFR Part 361

[Docket ID ED-2019-OSERS-0140]

State Vocational Rehabilitation Services Program

AGENCY: Office of Special Education and Rehabilitative Services, U.S. Department of Education.

ACTION: Reopening of comment period; policy interpretation.

SUMMARY: On February 28, 2020, the U.S. Department of Education (Department) published a policy interpretation and request for comment concerning a change in policy regarding the use of Federal vocational rehabilitation (VR) funds reserved for pre-employment transition services. The interpretation established a deadline of March 30, 2020, for submitting comments. This document reopens the comment period.

DATES: The comment period for the policy interpretation that published February 28, 2020, at 85 FR 11848, is reopened. Comments are due July 1, 2020.

FOR FURTHER INFORMATION CONTACT: Carol Dobak, U.S. Department of Education, 400 Maryland Avenue SW, Room 5153, Potomac Center Plaza, Washington, DC 20202-5108. Telephone: (202) 245-7325. Email: Carol.Dobak@ed.gov.

If you use a telecommunications device for the deaf (TDD) or a text telephone (TTY), call the Federal Relay Service (FRS), toll free, at 1-800-877-8339.

SUPPLEMENTARY INFORMATION: On February 28, 2020, the Department published in the Federal Register (85 FR 11848) a notice of policy interpretation and request for comment concerning a change in policy regarding the use of Federal VR funds reserved for pre-employment transition services.

Specifically, the Department issued this notice of interpretation to—(1) clarify current policy regarding the use of Federal VR funds reserved for the provision of pre-employment transition services to pay for auxiliary aids and services needed by all students with disabilities in order to access or participate in required pre-employment transition services under section 113(b) of the Rehabilitation Act of 1973, as amended; and (2) announce a change in policy with respect to additional VR services needed by eligible students with disabilities that may be paid for with the 15 percent minimum of Federal VR grant funds reserved for the provision of pre-employment transition services and the circumstances under which those funds may be used to pay for those additional VR services.

The comment period closed on March 30, 2020. Because the novel coronavirus pandemic has disrupted operations of VR agencies, service providers, educational agencies, and other stakeholders nationwide, and because we have received a number of requests to reopen the comment period on this important issue, we are reopening the comment period until July 1, 2020.

Note: All information in the notice of policy interpretation and request for comment concerning a change in policy regarding the use of Federal VR funds reserved for the provision of pre-employment transition services remains the same, except for the deadline for comments. For purposes of making comments, the notice of interpretation is published in full at 85 FR 11848 (Feb. 28, 2020).

Accessible Format: Individuals with disabilities can obtain this document in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or portable document format (PDF). To use PDF you must have Adobe Acrobat Reader, which is available free at the site.

You may also access documents of the Department published in the Federal Register by using the article search feature at: www.federalregister.gov. Specifically, through the advanced search feature at this site, you can limit your search to documents published by the Department.

Mark Schultz,
Commissioner, Rehabilitation, Services Administration. Delegated the authority to perform the functions and duties of the Assistant Secretary for the Office of Special Education and Rehabilitative Services.

[FR Doc. 2020-10261 Filed 5-29-20; 8:45 am]

BILLING CODE 4000-01-P